FEDERAL MEDIATION AND CONCILIATION SERVICE

[Docket No.: FMCS-2020-0005-0001]

Notice of Succession Plan for the FMCS

AGENCY: Office of the Director (OD), Federal Mediation and Conciliation Service (FMCS).

ACTION: Notice.

SUMMARY: This is notice of the succession plan for the Federal Mediation and Conciliation Service (FMCS) provided by the Director of FMCS at the request of the Federal Transition Coordinator at the General Services Administration and the Office of Management and Budget via OMB Memorandum M-20-33. This notice supersedes all prior succession plans for officials performing the functions and duties of the Director of FMCS.

DATES: September 19, 2020.

ADDRESSES: N/A.

FOR FURTHER INFORMATION CONTACT: For specific questions related to this notice, please contact Sarah Cudahy, 202-606-8090, scudahy@fmcs.gov.

SUPPLEMENTARY INFORMATION: This Notice provides the succession plan of officials authorized to perform the functions and duties of the Director of the Federal Mediation and Conciliation Service. The order of succession is subject to the provisions of the Federal Vacancies Reform Act of 1998 (5 U.S.C. 3345-3349d).

Order of Succession

Subject to the provisions of the Federal Vacancies Reform Act of 1998, the following is the succession plan of officials authorized to perform the functions and duties of the Director of the Federal Mediation and Conciliation Service:

• 1st in Order of Succession: Principal Deputy Director

• 2nd in Order of Succession: Deputy Director

• 3rd in Order of Succession: Chief Operating Officer

Dated: September 19, 2020.
Sarah Cudahy,
General Counsel.

[FR Doc. 2020-21054 Filed 9-23-20; 8:45 am]

BILLING CODE 6732-01-P